DEPARTMENT OF JUSTICE

Notice of Lodging of Proposed Consent Decree Under the Residential Lead-Based Paint Hazard Reduction Act

On November 24, 2015, the Department of Justice lodged a proposed Consent Decree with the United States District Court for the Northern District of Illinois in the lawsuit entitled United States v. Dennis Hardesty, Civil Action No. 3:15 C 50295.

The consent decree settles claims against the owner and manager of 52 housing units in 50 separate properties located in or near Rockford, Illinois. The claims were brought on behalf of the Environmental Protection Agency and the Department of Housing and Urban Development under the Residential Lead-Based Paint Hazard Reduction Act, 42 U.S.C. 4851 et seq. (“Lead Hazard Reduction Act”). The United States alleged in the complaint that the Defendant failed to make one or more of the disclosures or to complete one or more of the disclosure activities required by the Lead Hazard Reduction Act.

Under the Consent Decree, the Defendant will certify that he is complying with residential lead paint notification requirements. The Defendant will submit a plan for window replacement work and will replace all windows known to or believed to contain lead-based paint in these 52 housing units owned or managed by Defendant that are not certified lead-based paint free. In addition, Defendant will abate lead-based paint hazards on friction and impact surfaces, stabilize other lead-based paint hazards, and pay an administrative penalty of $5,000.

The publication of this notice opens a period for public comment on the proposed Consent Decree. Comments should be addressed to the Assistant Attorney General, Environment and Natural Resources Division, and should refer to United States v. Hardesty, D.J. Ref. # 90-5-1-1-10760. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $14.00 (25 cents per page reproduction cost) payable to the United States Treasury.

Maureen Katz,
Assistant Chief, Environmental Enforcement Section, Environment and Natural Resources Division.

[FR Doc. 2015-30334 Filed 11-30-15; 8:45 am]

BILLING CODE 4410-15-P